DEPARTMENT OF TRANSPORTATION

National Highway Traffic Safety Administration

[U.S. DOT Docket No. NHTSA-2007-0043]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before April 4, 2008.

ADDRESSES: Direct all written comments to U.S. Department of Transportation Dockets, 1200 New Jersey Ave, SE., Washington, DC 20590. Docket No. NHTSA-2007-0043.

FOR FURTHER INFORMATION CONTACT: Mr. Keith Williams, Contracting Officer's Technical Representative, Highway Safety Specialist, Enforcement and Justice Services Division, NTI-122, National Highway Traffic Safety Administration, 1200 New Jersey Avenue, SE., Room W44-231, Washington, DC 20590.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Evaluation Surveys for Demonstration of Speed Management Programs (including Automated and Traditional Enforcement)

Type of Request—New information collection requirement.

OMB Clearance Number—None.

Form Number—This collection of information uses no standard forms.

Requested Expiration Date of Approval—3 years from date of approval.

Summary of the Collection of Information—NHTSA proposes to conduct telephone surveys to evaluate an intervention designed to reduce speeding. Sample size will range from 200 to 400 per survey wave depending on the geographic area unit being surveyed (State, community) and the evaluation design for the intervention (e.g., number of analytic groups). Interview length will be approximately10 minutes. The surveys will collect information on attitudes, awareness knowledge, and behavior related to the speed management program intervention. Surveys will be administered in areas where NHTSA is conducting speed management enforcement demonstration projects and similar control sites. The surveys will follow a pre-post design where they are administered prior to the implementation of the intervention and after its conclusion. Interim survey waves may also be administered if the duration of the intervention permits.

In conducting the proposed surveys, the interviewers will use computer-assisted telephone interviewing to reduce interview length and minimize recording errors. A Spanish Language translation and bilingual interviewers will be used to minimize language barriers in participation. The proposed surveys will be anonymous.

Description of the Need for the Information and Proposed Use of the Information

The National Highway Traffic Safety Administration's (NHTSA) mission is to save lives, prevent injuries, and reduce healthcare and other economic costs associated with motor vehicle crashes. The agency's goal is to reduce the rate of fatalities from speeding-related crashes. The National Highway Traffic Safety Administration (NHTSA) was established to reduce the mounting number of deaths, injuries, and economic losses resulting from motor vehicle crashes on the Nation's highways. As part of this statutory mandate, NHTSA is authorized to conduct research as a foundation for the development of motor vehicle standards and traffic safety programs.

NHTSA has periodically updated its knowledge and understanding of the public's attitudes and behaviors with respect to speeding. In 1998, NHTSA conducted a national survey (National Survey of Speeding and Other Unsafe Driving Actions: Volume III: Countermeasures, Final Report) which indicated 71% of the general public favored automated devices for speed enforcement, and 76% believed the use of automated devices reduced speeding-related accidents. This survey also showed females were 15% more likely to be in favor of using automated speed enforcement than males, as well as, reasons why the public liked or disliked automated speeding devices. Twenty percent (20%) liked automated speeding devices because photo evidence proved a violation and 19% liked it because it increased driver awareness and fewer law enforcement officers were needed for traffic enforcement. Twenty-six percent (26%) did not like automated speeding enforcement because it invaded privacy, was a violation of rights or was a governmental infringement. Four years later NHTSA sponsored another national survey (National Survey of Speeding and Unsafe Driving Attitudes and Behavior: 2002: Volume II.) that found 68% of the general public believed the use of automated speed enforcement was good for anyone driving at least 20 miles per hour more than the speed limit, and 78% favored automated enforcement in a school zone. Fifty-Six percent (56%) of the public favored photos being taken of the driver from a frontal view while 32% favored taking photos of the rear license plate only. Since these surveys were conducted years ago they cannot be used to evaluate new programs scheduled to be initiated in the next few years.

Beginning in 2008, NHTSA intends to administer a demonstration project over a three-year period that will include two years where selected sites will incorporate both traditional law enforcement and use of automated enforcement of speeding in the demonstration area. The demonstration project will be accompanied by a Public Information and Education campaign about speeding and driving safety. Before and after this demonstration project, NHTSA will conduct telephone surveys in waves of up to 400 adult drivers living in the selected demonstration project areas, as well as, a comparison area. These surveys will measure the change in public attitude about speeding and driving behavior resulting from the enforcement and Public Information and Education campaigns.

These surveys will collect the following type of information: Whether members of the general public support automated enforcement; if the support varies by the specific speed being traveled; where the speeding occurs, such as a school zone or other road type; whether there is a preference for photos to be taken of the driver versus the license plate of the vehicle; whether there are a differences by sex or age; the reasons for supporting or not supporting automated speed enforcement versus traditional law enforcement officer enforcement; whether members of the general public are aware of the public information campaign in their area about speeding; whether this public information campaign has caused them to change their opinions toward speeding or whether the public information campaign has affected their behavior by causing them to be more careful about observing speed limits or reducing the speed they drive; the overall effectiveness of the public information campaign; determining what is an appropriate balance between automated speed enforcement and traditional law enforcement officer enforcement; whether members of the general public believe automated speeding enforcement should be expanded, and the effectiveness of automated and traditional enforcement measures on reducing crashes, injuries and saving lives.

These surveys will help NHTSA to evaluate a demonstration project on speed management using automated and traditional speed enforcement. The findings will be used to help focus the program and determine which activities achieve the greatest benefit. This information will then be used to develop new programs to decrease the likelihood of speeding, and to provide informational support to States, localities, and law enforcement agencies that will aid them in their efforts to reduce speeding crashes and injuries. This demonstration project could be a model for how jurisdictions can develop a self-sustaining and effective speed management program using both traditional and automated speed enforcement methods. A demonstration project incorporating rational speed limits, a public communications plan and rigorously enforced speed limits over a defined geographic area will assist jurisdictions in understanding how to gain higher compliance with speed limits and bring about a reduction in speeding-related crashes, injuries and deaths.

Description of the Likely Respondents (Including Estimated Number and Proposed Frequency of Response to the Collection of Information)

Under this proposed effort, NHTSA intends to conduct telephone surveys to collect data from up to 1,600 licensed drivers age 18 and older. Interviews will be conducted with persons at residential phone numbers selected through random digit dialing and located within the jurisdiction where the speed enforcement demonstration project is conducted, as well as control areas. Businesses will be ineligible for the sample and will not be interviewed. No more than one respondent will be selected per household. Each member of the sample will complete one interview. After each wave is completed and the data analyzed, the findings will be disseminated to the participating States for review.

Estimate of the Total Annual Reporting and Recordkeeping Burden Resulting From the Collection of Information

NHTSA estimates the respondents in the sample will require an average of 10 minutes to complete the telephone interviews. Thus, the estimated reporting burden hours on the general public will be a maximum of 137 hours per year, for two years. The respondents will not incur any reporting cost from the information collection. The respondents also will not incur any record keeping burden or record keeping cost from the information collection.

Authority: 44 U.S.C. 3506(c)(2)(A).

Marilena Amoni,
Associate Administrator, Research and Program Development.

[FR Doc. E8-2016 Filed 2-1-08; 8:45 am]

BILLING CODE 4910-59-P